DEPARTMENT OF COMMERCE

National Oceanic and Atmospheric Administration

[RTID 0648-XB424]

Gulf of Mexico Fishery Management Council; Public Meeting

AGENCY: National Marine Fisheries Service (NMFS), National Oceanic and Atmospheric Administration (NOAA), Commerce.

ACTION: Notice of informational webinars.

SUMMARY: The Gulf of Mexico Fishery Management Council (Council) will host informational webinars on behalf of NOAA Fisheries regarding the implementation of the Southeast For-Hire Integrated Electronic Reporting Program.

DATES: The Council will host two For-Hire Vessel Monitoring System Requirements informational webinars on October 7, 2021, from 10 a.m. to 11:30 a.m. EDT and on October 12, 2021, from 6 p.m. until 7:30 p.m. EDT.

ADDRESSES: The meetings will be held via webinar.

FOR FURTHER INFORMATION CONTACT: Emily Muehlstein, Public Information Officer, Gulf of Mexico Fishery Management Council; telephone: (813) 348-1630.

SUPPLEMENTARY INFORMATION: The Council, on behalf of NOAA Fisheries, will host informational webinars regarding the upcoming implementation of vessel monitoring system (VMS) requirements for the Southeast For-Hire Integrated Electronic Reporting Program. Requirements for Gulf of Mexico federal charter/headboat permit holders are anticipated to become effective December 13, 2021. The informational webinars will provide an overview of regulations, allow vendors to present available, approved VMS units, and provide opportunities for participants to ask questions about the program and VMS units.

The webinars are open to the public. Registration is required. Additional information, including links to registration is available at: https://gulfcouncil.org/public-hearings-scoping-workshops/.

The end times specified for these webinars are subject to change.

Authority: 16 U.S.C. 1801 et seq.

Dated: September 14, 2021.
Tracey L. Thompson,
Acting Deputy Director, Office of Sustainable Fisheries, National Marine Fisheries Service.

[FR Doc. 2021-20175 Filed 9-16-21; 8:45 am]

BILLING CODE 3510-22-P